ENVIRONMENTAL PROTECTION AGENCY

[OPPT-2002-0001; FRL-6830-2]

Establishment of the National Pollution Prevention and Toxics Advisory Committee

AGENCY: Environmental Protection Agency (EPA).

ACTION: Notice; establishment of advisory committee.

SUMMARY: As required by section 9(a)(2) of the Federal Advisory Committee Act, we are giving notice that EPA is establishing the National Pollution Prevention and Toxics Advisory Committee (NPPTAC). The purpose of this Committee is to provide a forum for a diverse group of individuals to provide advice, information, and recommendations to EPA's Office of Pollution Prevention and Toxics (OPPT) regarding the overall policy and operations of programs undertaken by the office. EPA has determined that this advisory committee is in the public interest and will assist the Agency in performing its duties as prescribed in the Toxic Substances Control Act, the Pollution Prevention Act, and other applicable statutes. Copies of the Committee Charter will be filed with the appropriate congressional committees and the Library of Congress.

FOR FURTHER INFORMATION CONTACT: For general information contact: Barbara Cunningham, Acting Director, Environmental Assistance Division (7408M), Office of Pollution Prevention and Toxics, Environmental Protection Agency, 1200 Pennsylvania Ave., NW., Washington, DC 20460; telephone number: (202) 554-1404; e-mail address: TSCA-Hotline@epa.gov.

For technical information contact: Mary Hanley (7401M), Office of Pollution Prevention and Toxics, Environmental Protection Agency, 1200 Pennsylvania Ave., NW., Washington, DC 20460; telephone number: (202) 564-0316; e-mail address: hanley.mary@epa.gov.

List of Subjects

Environmental protection.

Dated: August 27, 2002.
Stephen L. Johnson,
Assistant Administrator for Prevention, Pesticides and Toxic Substances.

[FR Doc. 02-22613 Filed 9-4-02; 8:45 am]

BILLING CODE 6560-50-S